OFFICE OF THE UNITED STATES TRADE REPRESENTATIVE

Notice of Continuation and Request for Nominations for the Intergovernmental Policy Advisory Committee on Trade

AGENCY: Office of the United States Trade Representative.

ACTION: Notice of renewal of the charter and request for nominations.

SUMMARY: The Office of the United States Trade Representative (USTR) expects to establish a new four-year charter term and is accepting applications from qualified individuals interested in serving as a member of the Intergovernmental Policy Advisory Committee on Trade (IGPAC). The IGPAC is a trade advisory committee that provides general policy advice and guidance to the U.S. Trade Representative on trade policy and development matters that have a significant impact on the affairs of U.S. state and local governments.

DATES: In order to receive full consideration, applications should be received no later than three weeks from this filing. Nominations will be accepted after that date on a rolling basis as vacancies arise until the expiration of the charter term, which is four years from the date of filing.

ADDRESSES: Submissions should be sent as one PDF document to the Office of the U.S. Trade Representative, Office of Intergovernmental Affairs and Public Engagement at MBX.USTR.IAPE@USTR.eop.gov.

FOR FURTHER INFORMATION CONTACT: Jennifer Bang, Assistant U.S. Trade Representative for Intergovernmental Affairs and Public Engagement, Office of the U.S. Trade Representative, at Jennifer.D.Bang@ustr.eop.gov; and Marshall Stallings, Director for Intergovernmental Affairs and Public Engagement, Ethan.M.Stallings@ustr.eop.gov.

SUPPLEMENTARY INFORMATION:

I. Background

Section 135(c)(1) of the Trade Act of 1974, as amended (19 U.S.C. 2155(c)(1)), authorizes the President to establish individual general trade policy advisory committees for industry, labor, agriculture, services, investment, defense, small business, and other interests, as appropriate, to provide general policy advice. Section 135(c)(3) authorizes the President to establish policy advisory committees representing non-Federal governmental interests to provide policy advice. The President delegated that authority to the U.S. Trade Representative in Executive Order 11846, section 4(d), issued on March 27, 1975. With limited statutory exceptions, the IGPAC is subject to the provisions of the Federal Advisory Committee Act. Pursuant to these authorities, the U.S. Trade Representative intends to establish a new four-year charter term for the IGPAC.

The IGPAC is a discretionary trade advisory committee established to provide general policy advice to the U.S. Trade Representative on trade policy and development matters that have a significant impact on the affairs of U.S. state and local governments. More specifically, the IGPAC provides general policy advice on issues that may affect U.S. state and local governments including: (1) negotiating objectives and bargaining positions before entering into trade agreements; (2) the impact of the implementation of trade agreements; (3) matters concerning the operation of any trade agreement once entered into; and (4) other matters arising in connection with the development, implementation, and administration of the trade policy of the United States.

The IGPAC meets as needed, at the call of the U.S. Trade Representative or their designee, or two-thirds of the IGPAC members, depending on various factors such as the level of activity of trade negotiations and the needs of the U.S. Trade Representative.

II. Membership

The IGPAC is composed of not more than 35 members who have expertise in general trade, investment, and development issues, and are appointed from U.S. states and localities, and other non-Federal governmental entities. Members represent the executive and legislative branches of state, county, and municipal governments and may hold elective or appointive office.

The U.S. Trade Representative appoints IGPAC members for a term that will not exceed the duration of this charter. IGPAC members must be able to obtain and maintain a security clearance, or complete a background investigation and non-disclosure agreement, in order to serve and have access to classified and trade sensitive documents. They must meet the eligibility requirements described below at the time of appointment and at all times during their term of service. Members serve at the discretion of the U.S. Trade Representative. Individuals can be reappointed for any number of terms.

The U.S. Trade Representative is committed to an agenda that advances fair and reciprocal trading practices and will seek advice and recommendations on policies that will support long-term American prosperity and national security. The U.S. Trade Representative strongly encourages diverse backgrounds and perspectives and makes appointments to the IGPAC without regard to political affiliation and in accordance with equal opportunity practices. IGPAC members serve without either compensation or reimbursement of expenses. Members are responsible for all expenses they incur to attend meetings or otherwise participate in IGPAC activities.

The U.S. Trade Representative appoints IGPAC members to represent the executive and legislative branches of state, county, and municipal governments. USTR's foremost consideration for applicants is their ability to carry out the goals of section 135(c) of the Trade Act of 1974, as amended. Other criteria include the applicant's knowledge of and expertise in international trade issues relevant to the work of the IGPAC and USTR.

III. Request for Nominations

USTR is soliciting nominations for membership on the IGPAC. To apply for membership, an applicant must meet the following eligibility criteria at the time of application and at all times during their term of service as an IGPAC member:

1. The applicant must be a U.S. citizen.

2. The applicant cannot be a full-time employee of a U.S. governmental entity.

3. The applicant cannot be registered with the U.S. Department of Justice under the Foreign Agents Registration Act.

4. The applicant must be able to obtain and maintain a security clearance or complete a background investigation and a non-disclosure agreement.

5. The applicant must represent the executive or legislative branch of a state, county, or municipal government or an organization composed of or representing these entities.

In order to be considered for IGPAC membership, interested persons should submit the following as one PDF document to MBX.USTR.IAPE@USTR.eop.gov.

Name, title, affiliation, and contact information of the individual requesting consideration.

• A letter on the entity's letterhead from the sponsoring executive or legislative branch of a state, county, or municipal government, containing a brief description of the manner in which international trade affects the state, county, or municipality and why USTR should consider the applicant for membership.

• The applicant's personal resume or comprehensive biography.

• An affirmative statement that the applicant and the entity they represent meet all eligibility requirements.

USTR will consider applicants who meet the eligibility criteria in accordance with equal opportunity practices, based on the following factors:

• Ability to represent the sponsoring executive or legislative branch of a state, county, or municipal government interests on international trade matters.

• Knowledge of and experience in trade matters relevant to the work of the IGPAC and USTR.

• How they will contribute to America First trade policies that create new opportunities and higher living standards for American families, farmers, manufacturers, workers, and businesses.

IV. Public Interest Determination

Pursuant to 41 U.S.C. 102-3.60(a), to establish, renew, reestablish, or merge a q discretionary (agency discretion) advisory committee, an agency must first consult with the General Services Administration's Committee Management Secretariat (the Secretariat) and, as part of the consultation, provide a written public interest determination approved by the head of the agency to the Secretariat with a copy to the Office of Management and Budget. In addition, pursuant to 41 U.S.C. 102-3.35, an agency shall follow the same consultation process and document in writing the same determination of need before creating a subcommittee under a discretionary committee that is not made up entirely of members of a parent advisory committee.

Information on the following factors for the committee is provided to the Secretariate to demonstrate that renewing the committee is in the public interest:

1. Annual Budget:$20,000.

a. Federal Personnel on a Full-Time Equivalent (FTE) Basis:0.17.

b. Other Federal Internal Costs:Security clearance and background investigations facilitated by the DOJ for committee members that do not have a clearance. This would cost around $370 per clearance for the DOJ. We do not anticipate every committee member will need a security clearance; thus, it will be difficult to estimate the cost.

c. Proposed Payments to Members:None.

d. Proposed Number of Members:Up to 30.

e. Reimbursable Costs:None.

2. If Applicable, the Total Dollar Value of Grants Expected to be Recommended During the Fiscal Year:None.

3. Criteria for Selecting Members To Ensure the Committee has the Necessary Expertise and Fairly Balance Membership:

USTR will consider applicants who meet all the eligibility criteria based on the following factors:

a. Ability to represent the sponsoring U.S. entity's or U.S. organization's and its subsector's interests on trade matters.

b. Knowledge of and experience in trade matters relevant to the work of the committee and USTR.

c. How they will contribute to America First trade policies that create new opportunities and higher living standards for families, farmers, manufacturers, workers, and businesses.

The U.S. Trade Representative strongly encourages diverse backgrounds and perspectives and makes recommendations for members to serve on the committee without regard to political affiliation and in accordance with equal opportunity practices. USTR strives to ensure balance in terms of sectors, expertise, and other factors relevant to USTR's needs.

4. List of All Other Federal Advisory Committees of the Agency: Advisory Committee for Trade Policy and Negotiations (ACTPN), Agricultural Policy Advisory Committee (APAC) with USDA, Agricultural Technical Advisory Committees for Trade (ATAC) with USDA, Industry Trade Advisory Committees (ITAC) with DOC, Labor Advisory Committee (LAC) with DOL, Seasonal and Perishable Agricultural Products Advisory Committee with USDA, Trade Advisory Committee on Africa (TACA), and Trade and Environment Policy Advisory Committee (TEPAC).

5. Justification That the Information or Advice Provided by the Federal Advisory Committee or Subcommittee Is Not Available From Another Federal Advisory Committee, Another Federal Government Source, or Any Other More Cost-Effective and Less Burdensome Source:The trade advisory committees are an integral link between diverse stakeholders and the U.S. Government and empowers the United States to display a united front when it negotiates trade agreements with other nations. The committee offers both consensus advice and input from knowledgeable and experienced representatives of all sectors of the U.S. economy that are affected by trade, which is not otherwise available. Other means of obtaining these vital contributions, such as other Federal advisory committees or sources, would not include the full range of views represented by the trade advisory committees.

6. If the Consultation is a Committee Renewal, a Summary of the Previous Accomplishments of the Committee and the Reasons It Needs To Continue:

Congress established the Trade Advisory Committee system through Section 135 of the Trade Act of 1974 (Trade Act), as amended (19 U.S.C. 2155) to ensure that U.S. trade policy and trade negotiating objectives adequately reflect U.S. public and private sector interests.

The trade advisory committees provide information and advice on U.S. negotiating objectives, the operation of trade agreements, and other matters arising in connection with the development, implementation, and administration of U.S. trade policy. At the conclusion of certain trade negotiations, appropriate committees must report on the effects of the proposed agreement (19 U.S.C. 2155(e)).

This committee was integral to the development of proposals related to the Agreements on Reciprocal Trade negotiations, especially with respect to trading partners in Sub-Saharan Africa. The committee members help USTR to identify market-access problems, non-tariff barriers, discriminatory foreign practices, import restrictions, currency valuation issues, and notable others trade issues that disadvantage U.S. exporters in international markets. Their advice and counsel remain imperative as USTR continues to advance the reciprocal trade negotiations.

7. Explanation of Why the Committee Is Essential to the Conduct of Agency Business:

The committee includes a broad swath of representatives of industry, agriculture, small business, labor, service industries, retailers, non-federal governments, nongovernmental organizations, and consumer interests who have expertise in general trade, investment, and development issues. This committee is a crucial resource for the United States Trade Representative to hear stakeholder feedback and to build support for a robust trade agenda that promotes investment and productivity, enhances our Nation's industrial and technological advantages, defends our economic and national security, and—above all—benefits American workers, manufacturers, farmers, ranchers, entrepreneurs, and businesses.

This public interest determination documents that renewing the committee is essential to the conduct of agency business and that the information to be obtained is not already available through another advisory committee or source within the Federal Government.

Jennifer Bang,
Assistant U.S. Trade Representative for Intergovernmental Affairs and Public Engagement, Office of the United States Trade Representative.

[FR Doc. 2026-04245 Filed 3-3-26; 8:45 am]

BILLING CODE 3390-F4-P